NATIONAL AERONAUTICS AND SPACE ADMINISTRATION

[Notice 12-093]

NASA Advisory Council; Commercial Space Committee; Meeting

AGENCY: National Aeronautics and Space Administration.

ACTION: Notice of meeting.

SUMMARY: In accordance with the Federal Advisory Committee Act, Public Law 92-462, as amended, the National Aeronautics and Space Administration (NASA) announces a meeting of the Commercial Space Committee of the NASA Advisory Council (NAC). This Committee reports to the NAC. The meeting will be held for the purpose of soliciting, from the scientific community and other persons, scientific and technical information relevant to program planning.

DATES: Monday, November 26, 2012, 1:00 p.m.-4:00 p.m., Local Time.

ADDRESSES: NASA Headquarters, 300 E Street SW., Glennan Conference Room, 1Q39, Washington, DC 20546-0001.

FOR FURTHER INFORMATION CONTACT: Mr. Thomas W. Rathjen, Human Exploration and Operations Mission Directorate, NASA Headquarters, Washington, DC 20546, (202) 358-0552, fax (202) 358-2885, or thomas.rathjen-1@nasa.gov.

SUPPLEMENTARY INFORMATION: The meeting will be open to the public up to the capacity of the room. This meeting is also available telephonically and by WebEx. Any interested person may call the USA toll free conference call number (800) 857-4810 or toll number (773) 799-3416, pass code 7840548 to participate in this meeting by telephone. The WebEx link is https://nasa.webex.com/, the meeting number is 995 242 262, and the password is Monday1126!. The agenda for the meeting includes the following topics:

—Status of NASA's Commercialization Efforts

—Overview of NASA's Facility Utilization and Disposition Planning

It is imperative that the meeting be held on these dates to accommodate the scheduling priorities of the key participants. Attendees will be required to comply with NASA security procedures; visitors must show a valid State or Federal issued picture ID, green card, or passport to enter into NASA Headquarters, and must state they are attending the NASA Advisory Council Commercial Space Committee session in the Glennan Conference Room, 1Q39. All U.S. citizens and Permanent Residents (green card holders) desiring to attend must provide their full name, company affiliation (if applicable), and citizenship to Thomas Rathjen via email at thomas.rathjen-1@nasa.gov, no later than the close of business November 15, 2012. Permanent Residents will need to show residency status (valid green card) and a valid, officially issued picture identification such as a driver's license and must state they are attending the Commercial Space Committee meeting in the Glennan Conference Room, 1Q39. Foreign Nationals must submit, no later than the close of business November 14, 2012, their full name, gender, current address, citizenship, company affiliation (if applicable) to include address, telephone number, and their title, place of birth, date of birth, U.S. visa information to include type, number and expiration date, U.S. Social Security Number (if applicable), and an electronically scanned or faxed copy of their passport and visa to Thomas Rathjen, Executive Secretary, Commercial Space Committee, via email at thomas.rathjen-1@nasa.gov.

Patricia D. Rausch,
Advisory Committee Management Officer, National Aeronautics and Space Administration.

[FR Doc. 2012-27233 Filed 11-7-12; 8:45 am]

BILLING CODE 7510-13-P